NATIONAL CREDIT UNION ADMINISTRATION

Sunshine Act Meeting

TIME AND DATE: 10:00 a.m., Thursday, September 12, 2013.

PLACE: Board Room, 7th Floor, Room 7047, 1775 Duke Street (All visitors must use Diagonal Road Entrance), Alexandria, VA 22314-3428.

STATUS: Open.

MATTERS TO BE CONSIDERED:

1. NCUA's Rules and Regulations, Federal Credit Union Ownership of Fixed Assets.

2. Request from Peoples Advantage Federal Credit Union to Expand its Community Charter.

3. NCUA's Rules and Regulations, Authorizing Charitable Donation Accounts.

RECESS: 10:30 a.m.

TIME AND DATE: 10:45 a.m., Thursday, September 12, 2013.

PLACE: Board Room, 7th Floor, Room 7047, 1775 Duke Street, Alexandria, VA 22314-3428.

STATUS: Closed.

MATTERS TO BE CONSIDERED:

1. Consideration of Supervisory Activities. Closed pursuant to the following exemption: (8).

FOR FURTHER INFORMATION CONTACT: Gerard Poliquin, Secretary of the Board, Telephone: 703-518-6304.

Gerard Poliquin,
Secretary of the Board.

[FR Doc. 2013-22007 Filed 9-5-13; 4:15 pm]

BILLING CODE 7535-01-P